NATIONAL SCIENCE FOUNDATION

Special Emphasis Panel in Experimental Program To Stimulate Competitive Research; Notice of Meeting

In accordance with the Federal Advisory Committee Act (Public Law 92-463, as amended), the National Science Foundation announces the following meeting:

Name: Special Emphasis Panel for the Experimental Program to Stimulate Competitive Research (1198).

Date/Time: August 25, 2000; 8 am-5 pm.

Place: Holiday Inn Arlington at Ballston, 4610 Fairfax, Arlington, VA 22230.

Type of Meeting: Closed.

Contact Person: Dr. Richard J. Anderson, Senior Science Advisor, Experimental Program to Stimulate Competitive Research (EPSCoR), National Science Foundation, Suite 875, 4201 Wilson Blvd., Arlington, VA 22230. (703) 306-1683.

Purpose of Meeting: To provide advice and recommendations concerning EPSCoR Infrastructure Improvement proposals submitted to the NSF EPSCoR program for financial support.

Agenda: To review and evaluate proposals as part of the selection process for awards.

Reasons for Closing: The proposals being reviewed include information of a proprietary or confidential nature, including technical information; financial data, such as salaries; and personal information concerning individuals associated with the proposals. These matters are exempt under 5 U.S.C. 552b(c), (4) and (6) of the Government in the Sunshine Act.

Dated: June 28, 2000.
Karen J. York,
Committee Management Officer.

[FR Doc. 00-16784 Filed 6-30-00; 8:45 am]

BILLING CODE 7555-01-M